DEPARTMENT OF HEALTH AND HUMAN SERVICES

Meeting of the National Advisory Committee on Children and Disasters

AGENCY: Office of the Secretary, Department of Health and Human Services.

ACTION: Notice.

SUMMARY: As stipulated by the Federal Advisory Committee Act, the Department of Health and Human Services (HHS) is hereby giving notice that the National Advisory Committee on Children and Disasters (NACCD) will hold a public teleconference on May 5, 2017.

DATES: The NACCD meets May 5, 2017, from 3:00 p.m. to 4:00 p.m. EST.

ADDRESSES: We encourage members of the public to attend the teleconference. To register, send an email under the “Contact Us” link on https://www.phe.gov/naccd with “NACCD Registration” in the subject line.

FOR FURTHER INFORMATION CONTACT: CDR Evelyn Seel, MPH at (202) 205-7960. Visit the NACCD Web site located at https://www.phe.gov/naccd. Please submit your comments on the NACCD Contact Form located at https://www.phe.gov/NACCDComments.

SUPPLEMENTARY INFORMATION: Pursuant to the Federal Advisory Committee Act of 1972 (5 U.S.C., Appendix, as amended), and section 2811A of the Public Health Service Act (42 U.S.C. 300hh-10a), as added by section 103 of the Pandemic and All-Hazards Preparedness Reauthorization Act of 2013 (Pub. L. 113-5), the HHS Secretary, in consultation with the Secretary of the U.S. Department of Homeland Security, established the NACCD. The purpose of the NACCD is to provide advice and consultation to the HHS Secretary with respect to the medical and public health needs of children in relation to disasters.

Background: The NACCD public teleconference on May 5, 2017, is dedicated to the deliberation and vote on two task letters from the Assistant Secretary for Preparedness and Response (ASPR). The first task letter invites the NACCD to review the role of the ASPR in future disaster preparedness and response activities that specifically affect the well-being of children. The second task letter requests the NACCD to assess progress and remaining gaps in pediatric training needs of professionals caring for children in disasters since the 2011 National Center for Disaster Medicine and Public Health Conference on this topic. We will post modifications to the agenda on the NACCD May 5, 2017 meeting Web page, which is located at https://www.phe.gov/naccd.

Availability of Materials: We will post all meeting materials prior to the meeting on the NACCD May 5, 2017 meeting Web page located at https://www.phe.gov/naccd.

Procedures for Providing Public Input: Members of the public may attend the teleconference using a toll-free call-in phone number available on the NACCD Web site at https://www.phe.gov/naccd. We encourage members of the public to provide written comments that are relevant to the NACCD teleconference prior to May 5, 2017. Send written comments by email via the “Contact Us” link on https://www.phe.gov/naccd with “NACCD Public Comment” in the subject line. The NACCD will respond to comments received by close-of-business April 28, 2017, during the meeting.

Dated: April 4, 2017.
George W. Korch Jr.,
Acting Assistant Secretary for Preparedness and Response.

[FR Doc. 2017-07052 Filed 4-7-17; 8:45 am]

BILLING CODE P